DEPARTMENT OF THE INTERIOR

National Park Service

Notice of Intent (NOI) to Expand the Scope of the General Management Plan (GMP)/Environmental Impact Statement (EIS) Being Prepared for Fort Pulaski National Monument

SUMMARY: The National Park Service (NPS) is expanding the scope of the GMP/EIS being prepared for Fort Pulaski National Monument. As part of this planning effort, the NPS will include a wilderness study to determine if any portions of the park should be recommended for inclusion in the National Wilderness Preservation System as defined in the Wilderness Act of 1964. The study will be included as part of the GMP/EIS currently in preparation.

A NOI to prepare an EIS for the GMP was originally published in the Federal Register on February 24, 2005, (Volume 70, Number 36). That EIS now will be expanded to include an evaluation of the impacts associated with possible designation of wilderness at Fort Pulaski. This notice is being furnished as required by National Environmental Policy Act (NEPA) regulations 40 CFR 1501.7.

To facilitate sound planning and analysis of environmental impact, the NPS is gathering information necessary for the preparation of the GMP, the wilderness study, and the associated EIS and is obtaining suggestions and information from other agencies and the public on the scope of issues to be addressed. Comments and participation in this scoping process are invited.

DATES: Open house meeting places and times will be announced by press release to print, radio and television organizations through the Savannah area, including The Savannah Morning News, the major commercial broadcast network affiliates, public broadcasting stations, and on the part Web site at: http://www.nps.gov/fopu.

ADDRESSES: Persons wishing to comment may do so by any one of several methods. They may attend the open houses noted above. They may mail comments to Fort Pulaski National Monument, Attention: Superintendent, P.O. Box 30757, Savannah, Georgia 31410-0757. They may also comment via the Internet at http://parkplanning.nps.gov. Finally, they may hand-deliver comments to the Fort Pulaski National Monument headquarters in Savannah, Georgia.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Fort Pulaski National Monument, P.O. Box 30757, Savannah, Georgia 31410-0757, 912-786-5787.

SUPPLEMENTARY INFORMATION: Persons who previously submitted comments on the scope of the EIS as it relates to the GMP need not resubmit those comments. The NPS already is considering that input as planning continues. However, persons who have not previously submitted comments on the scope of the EIS, or who wish to submit additional comments related to the scope of the EIS in consideration of the wilderness study are encouraged to do so.

The environmental review of the GMP, wilderness study, and EIS for Fort Pulaski National Monument will be conducted in accordance with requirements of the NEPA (42 U.S.C. 4321 et seq.), NEPA regulations (40 CFR 1500-1508), other appropriate Federal regulations, and NPS procedures and policies for compliance with those regulations.

Authority: The authority for publishing this notice is 40 CFR 1506.6.

The responsible official for the FEIS is Patricia A. Hooks, Regional Director, Southeast Region, National Park Service, 100 Alabama Street SW., 1924 Building, Atlanta, Georgia 30303.

Dated: April 16, 2007.
Patricia A. Hooks,
Regional Director, Southeast Region.

[FR Doc. 07-3204 Filed 6-29-07; 8:45 am]

BILLING CODE 4310-5L-M